DEPARTMENT OF TRANSPORTATION

Surface Transportation Board

[STB Docket No. AB-1056X; STB Docket No. AB-1066 (Sub-No. 1X)]

Pioneer Industrial Railway Co.—Discontinuance of Service Exemption—Line in Peoria County, IL; Central Illinois Railroad Company—Discontinuance of Service Exemption—Line in Peoria County, IL

On December 29, 2009, Pioneer Industrial Railway Co. (PIRY) and Central Illinois Railroad Company (CIRY), jointly filed with the Surface Transportation Board a petition under 49 U.S.C. 10502 for exemption from the provisions of 49 U.S.C. 10903.¹ PIRY seeks to discontinue service over 8.29 miles of rail line known as the Kellar Branch, between mileposts 1.71 and 10.0, owned by and located in the City of Peoria and the Village of Peoria Heights, IL. CIRY seeks to discontinue service over a 5.72-mile portion of the Kellar Branch, between mileposts 2.78 and 8.50.² The line traverses United States Postal Service Zip Codes 61603, 61604, 61614, 61615 and 61616, and includes the stations of Peoria P&PU Switch, Averyville, Peoria Heights, Keller, and Pioneer Park.

¹ Applicants also seek exemptions from 49 U.S.C. 10904 (offer of financial assistance procedures) and 49 U.S.C. 10905 (public use conditions). These requests will be addressed in the final decision. We note, however, that because this is a discontinuance proceeding and not an abandonment, trail use/rail banking and public use conditions are not appropriate. Similarly, no environmental or historic documentation is required under 49 CFR 1105.6(c)(2) and 1105.8(e).

² PIRY was authorized to lease and operate the line in Pioneer Industrial Railway Co.—Lease and Operation Exemption—Peoria, Peoria Heights & Western Railroad, STB Finance Docket No. 33549 (STB served Feb. 20, 1998); CIRY was authorized to operate the line in Central Illinois Railroad Company—Operation Exemption—Rail Line of The City of Peoria and The Village of Peoria Heights in Peoria and Peoria Heights, Peoria County, IL, STB Finance Docket No. 34518 (STB served July 28, 2004).

This transaction is related to a concurrently filed verified notice of exemption for PIRY to acquire from CIRY non-exclusive local trackage rights to operate over approximately 4.81 miles of rail line (the northern and southern sections of the Kellar Branch and the western connection). See STB Finance Docket No. 35341, Pioneer Industrial Railway Co.—Trackage Rights Exemption—Central Illinois Railway Company.

The line does not contain Federally granted rights-of-way. Any documentation in PIRY's or CIRY's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision is scheduled to be issued by April 16, 2010.

Any offer of financial assistance (OFA) to subsidize continued rail service under 49 CFR 1152.27(b)(2) will be due no later than 10 days after service of a decision granting the petition for exemption. Each offer must be accompanied by a $1,500 filing fee. See 49 CFR 1002.2(f)(25).

All filings in response to this notice must refer to STB Docket No. AB-1056X and STB Docket No. AB-1066 (Sub-No. 1X) and must be sent to: (1) Surface Transportation Board, 395 E Street, SW., Washington, DC 20423-0001; and (2) William A. Mullins, 2401 Pennsylvania Avenue, NW., Suite 300, Washington, DC 20037, and Michael R. Ascher, 2500 S. Highland Ave., Suite 360, Lombard, IL 60148. Replies to the petition are due on or before February 4, 2010.

Persons seeking further information concerning discontinuance procedures may contact the Board's Office of Public Assistance, Governmental Affairs and Compliance at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

Board decisions and notices are available on our Web site at http://www.stb.dot.gov.

Decided: January 12, 2010.
By the Board, Rachel D. Campbell, Director, Office of Proceedings.
Kulunie L. Cannon,
Clearance Clerk.

[FR Doc. 2010-694 Filed 1-14-10; 8:45 am]

BILLING CODE 4915-01-P